DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (OFAC) is publishing the names of nine individuals and four entities whose property and/or interests in property have been unblocked pursuant to the Foreign Narcotics Kingpin Designation Act (Kingpin Act) (21 U.S.C. 1901-1908, 8 U.S.C. 1182).

DATES: The unblocking and removal from the list of Specially Designated Nationals and Blocked Persons (SDN List) of the individuals and entities identified in this notice whose property and/or interests in property were blocked pursuant to the Kingpin Act, is effective on May 22, 2015.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On May 22, 2015, the Associate Director of the Office of Global Targeting removed from the SDN List the individuals and entities listed below, whose property and/or interests in property were blocked pursuant to the Kingpin Act:

Individuals

1. BRAMBILA MARTINEZ, Aurora, c/o PRODUCTOS FARMACEUTICOS COLLINS, S.A. DE C.V., Zapopan, Jalisco, Mexico; c/o INSUMOS ECOLOGICOS DEL ORIENTE, S.A. DE C.V., Guadalajara, Jalisco, Mexico; c/o SALUD NATURAL MEXICANA, S.A. DE C.V., Zapopan, Jalisco, Mexico; Avenida Obregon 180, Colonia Puente Grande, Jalisco, Mexico; DOB 15 Dec 1965; POB Mexico; citizen Mexico; nationality Mexico; C.U.R.P. BAMA651215MJCRRR05 (Mexico); alt. C.U.R.P. BAMA651215MMCRRR04 (Mexico); R.F.C. BAMA651215DI7 (Mexico); Contadora Publica (individual) [SDNTK].

2. DIAZ CASTRO, Maria Teresa (a.k.a. DIAZ DE TIRADO, Maria Teresa), c/o PRODUCTOS FARMACEUTICOS COLLINS, S.A. DE C.V., Zapopan, Jalisco, Mexico; c/o INSUMOS ECOLOGICOS DEL ORIENTE, S.A. DE C.V., Guadalajara, Jalisco, Mexico; DOB 23 Jan 1948; POB Sinaloa, Mexico; citizen Mexico; nationality Mexico; C.U.R.P. DICT480123MSLZSR05 (Mexico); R.F.C. DICT480123I37 (Mexico) (individual) [SDNTK].

3. ESPINOSA DE LOS MONTEROS RICO, Felipe De Jesus (a.k.a. ESPINOSA DE LOS RICO, Felipe de Jesus; a.k.a. ESPINOZA DE LOS MONTEROS, Felipe), c/o PRODUCTOS FARMACEUTICOS COLLINS, S.A. DE C.V., Zapopan, Jalisco, Mexico; c/o INSUMOS ECOLOGICOS DEL ORIENTE, S.A. DE C.V., Guadalajara, Jalisco, Mexico; c/o SALUD NATURAL MEXICANA, S.A. DE C.V., Zapopan, Jalisco, Mexico; Mexico; Avenida Naciones Unidas 5989, Cond. Ibiza Casa 34, Zapopan, Jalisco 45110, Mexico; DOB 15 Jun 1962; alt. DOB 15 Jan 1962; POB Mexico City; citizen Mexico; nationality Mexico; Passport 00140030868 (Mexico) (individual) [SDNTK].

4. TIRADO DIAZ, Baltazar, c/o ALIMENTOS SELECTOS SAN FRANCISCO S.P.R. DE R.L., Guadalajara, Jalisco, Mexico; c/o PRODUCTOS FARMACEUTICOS COLLINS, S.A. DE C.V., Zapopan, Jalisco, Mexico; DOB 27 Aug 1967; POB Mexico; citizen Mexico; nationality Mexico; C.U.R.P. TIDB670827HJCRZL07 (Mexico) (individual) [SDNTK].

5. TIRADO DIAZ, Liliana Guadalupe, c/o ALIMENTOS SELECTOS SAN FRANCISCO S.P.R. DE R.L., Guadalajara, Jalisco, Mexico; DOB 23 Jul 1966; POB Mexico; citizen Mexico; nationality Mexico; C.U.R.P. TIDL660723MJCRZL07 (Mexico) (individual) [SDNTK].

6. TIRADO DIAZ, Luis Alfonso, c/o PRODUCTOS FARMACEUTICOS COLLINS, S.A. DE C.V., Zapopan, Jalisco, Mexico; DOB 20 Jul 1968; POB Jalisco, Mexico; citizen Mexico; nationality Mexico; C.U.R.P. TIDL680720HJCRZS04 (Mexico) (individual) [SDNTK].

7. TIRADO DIAZ, Maria Teresa, c/o ALIMENTOS SELECTOS SAN FRANCISCO S.P.R. DE R.L., Guadalajara, Jalisco, Mexico; Alvaro Obregon 250, Colonia Agua Blanca Sur, Zapopan, Jalisco 45235, Mexico; DOB 08 Dec 1976; POB Mexico; citizen Mexico; nationality Mexico; Electoral Registry No. TRDZTR76120814M700 (Mexico) issued 1997 (individual) [SDNTK].

8. TIRADO DIAZ, Rolando, c/o PRODUCTOS FARMACEUTICOS COLLINS, S.A. DE C.V., Zapopan, Jalisco, Mexico; DOB 28 Mar 1971; POB Jalisco, Mexico; citizen Mexico; nationality Mexico; C.U.R.P. TIDR710328HJCRZL02 (Mexico) (individual) [SDNTK].

9. TIRADO ESCAMILLA, Telesforo Baltazar (a.k.a. TIRADO ESCAMILLA, Telesforo Baltasar; a.k.a. TIRADO MARTINEZ, Baltazar), c/o PRODUCTOS FARMACEUTICOS COLLINS, S.A. DE C.V., Zapopan, Jalisco, Mexico; Maya 3290, Guadalajara, Jalisco, Mexico; Rinconada Del Tulipan 3485, Guadalajara, Jalisco, Mexico; Calle Mallas 3278, Guadalajara, Jalisco, Mexico; DOB 10 Jan 1939; alt. DOB 09 Jan 1939; POB Nayarit, Mexico; citizen Mexico; nationality Mexico; C.U.R.P. TIET390110HNTRSL04 (Mexico) (individual) [SDNTK].

Entities

1. ALIMENTOS SELECTOS SAN FRANCISCO S.P.R. DE R.L., Chicharo 2680, Colonia Mercado de Abastos, Guadalajara, Jalisco 44530, Mexico; Rinconada de la Floresta 1243, Colonia Rinconada del Bosque, Guadalajara, Jalisco 44530, Mexico; R.F.C. ASS040427676 (Mexico) [SDNTK].

2. INSUMOS ECOLOGICOS DE ORIENTE, S.A. DE C.V., Jose I Solorzano 746, Colonia Jardines Alcalde, Guadalajara, Jalisco 44290, Mexico; R.F.C. IEO0806245A3 (Mexico) [SDNTK].

3. PRODUCTOS FARMACEUTICOS COLLINS, S.A. DE C.V. (a.k.a. GRUPO COLLINS; a.k.a. GRUPO FARMACEUTICO COLLINS; a.k.a. LABORATORIOS COLLINS), Avenida Lopez Mateos No. 1938, Colonia Agua Blanca, Zapopan, Jalisco 45070, Mexico; Pedro de Alacron No. 167, Zapopan, Jalisco, Mexico; Cipres No. 1677, Colonia Del Fresno, Guadalajara, Jalisco 44900, Mexico; Calle Vicente Guerrero 337, Colonia Agua Blanca, Zapopan, Jalisco 44008, Mexico; Prolongacion Lopez Mateos 1938, Colonia Agua Blanca, Zapopan, Jalisco 45070, Mexico; Calle Agua Prieta 1100, Colonia Agua Blanca, Zapopan, Jalisco 44008, Mexico; Puerto Soto La Marina 1632 A, Guadalajara, Jalisco 44330, Mexico; R.F.C. PFC8301273D1 (Mexico) [SDNTK].

4. SALUD NATURAL MEXICANA, S.A. DE C.V., Alvaro Obregon 250, Colonia Agua Blanca, Zapopan, Jalisco 45235, Mexico; Avenida Inglaterra #3109, Guadalajara, Jalisco 44500, Mexico; R.F.C. SNM-950403-FA5 (Mexico) [SDNTK].

Dated: May 22, 2015.
Gregory T. Gatjanis,
Associate Director, Office of Global Targeting, Office of Foreign Assets Control.

[FR Doc. 2015-13428 Filed 6-1-15; 8:45 am]

BILLING CODE 4810-AL-P